INTERNATIONAL TRADE COMMISSION

[Investigation Nos. 731-TA-770-773 and 775 (Second Review)]

Stainless Steel Wire Rod From Italy, Japan, Korea, Spain, and Taiwan

Determinations

On the basis of the record ¹ developed in the subject five-year reviews, the United States International Trade Commission (Commission) determines, pursuant to section 751(c) of the Tariff Act of 1930 (19 U.S.C. 1675(c)), that revocation of the antidumping duty orders on stainless steel wire rod from Italy, Japan, Korea, Spain, and Taiwan would be likely to lead to continuation or recurrence of material injury to an industry in the United States within a reasonably foreseeable time.²

¹ The record is defined in sec. 207.2(f) of the Commission's Rules of Practice and Procedure (19 CFR 207.2(f)).

² Chairman Shara L. Aranoff, Vice Chairman Daniel R. Pearson, and Commissioner Deanna Tanner Okun dissenting with respect to Italy. Vice Chairman Daniel R. Pearson and Commissioner Deanna Tanner Okun dissenting with respect to Korea and Spain.

Background

The Commission instituted these reviews effective July 1, 2009 (74 FR 31765, July 2, 2009) and determined on October 5, 2009, that it would conduct full reviews (74 FR 54068, October 21, 2009). Notice of the scheduling of the Commission's reviews and of a public hearing to be held in connection therewith was given by posting copies of the notice in the Office of the Secretary, U.S. International Trade Commission, Washington, DC, and by publishing the notice in the Federal Register on November 30, 2009 (74 FR 62588). The hearing was held in Washington, DC, on April 8, 2010, and all persons who requested the opportunity were permitted to appear in person or by counsel.

The Commission transmitted its determinations in these reviews to the Secretary of Commerce on May 28, 2010. The views of the Commission are contained in USITC Publication 4154 (May 2010), entitled Stainless Steel Wire Rod from Italy, Japan, Korea, Spain, and Taiwan: Investigation Nos. 731-TA-770-773 and 775 (Second Review).

By order of the Commission.
Issued: June 2, 2010.
William R. Bishop,
Acting Secretary to the Commission.

[FR Doc. 2010-13552 Filed 6-7-10; 8:45 am]

BILLING CODE 7020-02-P